DEPARTMENT OF THE INTERIOR

Bureau of Land Management

[CA-680-00-1220-HQ]

The Proposal of a Supplemental Rule Restricting Recreational Shooting to Protect Human Health and Safety in the Populated Western Portion of Wonder Valley California

AGENCY: Bureau of Land Management, Department of the Interior, Barstow Field Office, Desert District, California.

ACTION: This notice proposes that on those public lands administered by the BLM and bounded to the west by the corporate limits of the City of Twentynine Palms California, the south by Joshua Tree National Park, the north by the Marine Corps Air Ground Combat Center and the east by Range 11 East, San Bernardino Meridian, it would be prohibited to fire any firearm except shotguns with shot shells containing shot no larger than one-half the diameter of the bore. This proposed supplemental rule would not affect the legitimate and legal pursuit of game or shooting at controlled, permitted ranges.

SUMMARY: In accordance with Title 43, Code of Federal Regulations Section 8365.1-6, the State Director may establish supplementary rules in order to provide for the protection of persons, property and public lands and resources. This authority was delegated to the District Managers and Field Managers pursuant to BLM Manual 1203, California Supplement. Failure to comply with this proposed supplementary rule would be punishable by a fine not to exceed $100,000 and/or imprisonment not to exceed twelve months. The environmental effects of the proposed rule will be analyzed separately by Environmental Assessment CA-680-00-29.

DATES: Comments must be received in writing to the BLM no later than thirty days after the publishing of this proposed supplementary rule.

ADDRESSES: Written comments shall be mailed to the following addresses: Mr. Tim Read, Field Manager, Bureau of Land Management, Barstow Field Office, 2601 Barstow Road, Barstow, CA 92311.

SUPPLEMENTARY INFORMATION: Uncontrolled recreational shooting on public land create a public health and safety hazard by firing solid projectile firearms (such as rifles and pistols), that have a long range, into and about a populated rural area. The area of concern also receives heavy recreational use by equestrians, recreational miners and off-highway vehicles. BLM has received complaints from area residents and recreationist that have nearly been struck by stray bullets from recreational shooting. This proposed supplemental rule would prohibit the firing of any firearm except shotguns with shot shells containing shot no larger than one-half the diameter of the bore. Rounds of this type have less energy and travel considerably shorter distanced than solid projectiles (such as those fired from a rifle or pistol). By prohibiting all but low energy, short range gunfire a safer environment on both public and private lands within this populated area will be created. This proposed supplementary rule only affects public lands administered by BLM and would not affect the legitimate and legal pursuit of game or shooting at controlled, permitted ranges. This proposed supplemental rule will not infringe upon Constitutional rights of an individual to own or possess a lawful firearm.

FOR ADDITIONAL INFORMATION CONTACT: BLM Barstow Field Office, 2601 Barstow Road, Barstow, CA 92231, telephone (760) 252-6000.

Tim Read,
Field Manager.

[FR Doc. 00-8017 Filed 3-31-00; 8:45 am]

BILLING CODE 4310-40-P